DEPARTMENT OF LABOR

Employment and Training Administration

[TA-W-41, 609]

Nokia Mobile Phones Americas, Inc., Fort Worth, TX; Notice of Termination of Investigation

Pursuant to section 221 of the Trade Act of 1974, an investigation was initiated on June 3, 2002, in response to worker petition that was filed on behalf of workers at Nokia Mobile Phones Americas, Inc., Fort Worth, Texas.

An active certification covering the petitioning group of workers at the subject firm remains in effect (TA-W-39,300). Consequently, further investigation in this case would serve no purpose, and the investigation has been terminated.

Signed in Washington, DC, this 26th day of September, 2002.
Richard Church,
Certifying Officer, Division of Trade Adjustment Assistance.

[FR Doc. 02-26742 Filed 10-21-02; 8:45 am]

BILLING CODE 4510-30-P